DEPARTMENT OF THE INTERIOR

Bureau of Land Management

[LLCO956000 L14400000.BJ0000-16X]

Notice of Correction to Filing of Plats, Colorado

AGENCY: Bureau of Land Management, Interior.

ACTION: Notice of correction, Colorado.

SUMMARY: On October 29, 2015, the Bureau of Land Management (BLM) published a Notice of Filing of Plats of Survey by the Colorado State Office, Lakewood, Colorado [80 FR 66566] which included the following 2 surveys. The plat, in 3 sheets, incorporating the field notes of the dependent resurvey and survey in Townships 50 and 51 North, Range 1 East, New Mexico Principal Meridian, Colorado, and the plat, in 6 sheets, incorporating the field notes of the dependent resurvey and survey in Township 48 North, Range 3 West, New Mexico Principal Meridian, Colorado, both accepted September 30, 2015. This Notice of Correction corrects data errors, and both surveys now have a date of acceptance of November 13, 2015. The BLM Colorado State Office is publishing this notice to inform the public of the intent to officially file the survey plats listed above and afford a proper period of time to protest this action prior to the plat filing. During this time, the plats will be available for review in the BLM Colorado State Office.

DATES: Unless there are protests of this action, the filing of the plats described in this notice will happen on January 11, 2016.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

Randy Bloom,
Chief Cadastral Surveyor for Colorado.

[FR Doc. 2015-31233 Filed 12-10-15; 8:45 am]

BILLING CODE 4310-JB-P